DEPARTMENT OF TRANSPORTATION

Federal Aviation Administration

14 CFR Part 71

[Docket No. FAA-2023-2431; Airspace Docket No. 23-AEA-26]

RIN 2120-AA66

Amendment of Class E Airspace; Ebensburg, PA

AGENCY: Federal Aviation Administration (FAA), DOT.

ACTION: Final rule; correction.

SUMMARY: This action corrects a typographic error in the final rule published in the Federal Register on March 7, 2024, amending the Class E airspace at Ebensburg, PA.

DATES: Effective 0901 UTC, May 16, 2024. The Director of the Federal Register approves this incorporation by reference action under 1 CFR part 51, subject to the annual revision of FAA Order JO 7400.11 and publication of conforming amendments.

ADDRESSES: FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (89 FR 16447; March 7, 2024), amending the Class E airspace at Ebensburg, PA. Subsequent to publication, the FAA identified that the final rule was published with the incorrect agency docket number. This action corrects this error by replacing the incorrect agency docket number, FAA-2023-2341, with the correct one, FAA-2023-2431.

Correction to Final Rule

Accordingly, pursuant to the authority delegated to me, Amendment of Class E Airspace; Ebensburg, PA, published in the Federal Register on March 7, 2024 (89 FR 16447), is corrected as follows:

In FR Doc. 2024-04826, on page 16447, in the first column, in the document headings, amend the agency docket number to read, “[Docket No. FAA-2023-2431; Airspace Docket No. 23-AEA-26]”.

Issued in Fort Worth, Texas, on March 11, 2024.
Steven T. Phillips,
Acting Manager, Operations Support Group, ATO Central Service Center

[FR Doc. 2024-05423 Filed 3-18-24; 8:45 am]

BILLING CODE 4910-13-P